ENVIRONMENTAL PROTECTION AGENCY

[FRL-9695-3]

Notification of Closed Meeting of the Science Advisory Board's Scientific and Technological Achievement Awards Committee

AGENCY: Environmental Protection Agency (EPA).

ACTION: Notice.

SUMMARY: The U.S. Environmental Protection Agency's (EPA), Science Advisory Board (SAB) Staff Office announces a meeting of the SAB's Scientific and Technological Achievement Awards (STAA) Committee to discuss SAB recommendations regarding the Agency's 2012 STAA recipients. The SAB meeting will be closed to the public.

DATES: The SAB meeting dates are Monday and Tuesday, July 23 and 24, 2012, from 8:00 a.m. to 6:00 p.m. (Eastern Time).

ADDRESSES: The closed SAB meeting will be held at the EPA Potomac Yard Conference Center, South Building, 2777 S. Crystal Drive, Arlington, VA 22202.

FOR FURTHER INFORMATION CONTACT: Members of the public who wish to obtain further information regarding this announcement may contact Mr. Edward Hanlon, Designated Federal Officer, by telephone: (202) 564-2134 or email at hanlon.edward@epa.gov. The SAB Mailing address is: U.S. EPA Science Advisory Board (1400R), U.S. Environmental Protection Agency, 1200 Pennsylvania Avenue NW., Washington, DC 20460. General information about the SAB concerning the SAB meeting announced in this notice may be found on the SAB Web site at http://www.epa.gov/sab.

SUPPLEMENTARY INFORMATION: Summary: Pursuant to Section 10(d) of the Federal Advisory Committee Act (FACA), 5 U.S.C. App.2, and section (c)(6) of the Government in the Sunshine Act, 5 U.S.C. 552b(c)(6), EPA has determined that the SAB meeting will be closed to the public. The purpose of the SAB meeting is for the Committee to discuss recommendations for the SAB regarding the recipients of the Agency's 2012 Scientific and Technological Achievement Awards. These awards are established to honor and recognize EPA employees who have made outstanding contributions in the advancement of science and technology through their research and development activities, as exhibited in publication of their results in peer reviewed journals. I have determined that the SAB meeting will be closed to the public because it is concerned with selecting employees deserving of awards. In making these recommendations, the Agency requires full and frank advice from the SAB. This advice will involve professional judgments on the relative merits of various employees and their respective work. Such personnel matters involve the discussion of information that is of a personal nature and the disclosure of which would be a clearly unwarranted invasion of personal privacy and, therefore, are protected from disclosure by section (c)(6) of the Government in the Sunshine Act, 5 U.S.C. 552b(c)(6). Minutes of the SAB meeting will be kept and certified by the Chair.

Dated: June 22, 2012.
Lisa P. Jackson,
Administrator.

[FR Doc. 2012-16048 Filed 6-28-12; 8:45 am]

BILLING CODE 6560-50-P